U.S.-CHINA ECONOMIC AND SECURITY REVIEW COMMISSION

Notice of Open Public Event

AGENCY: U.S.-China Economic and Security Review Commission.

ACTION: Notice of open public event.

SUMMARY: Notice is hereby given of the following open public event of the U.S.-China Economic and Security Review Commission.

The Commission is mandated by Congress to investigate, assess, and report to Congress annually on “the national security implications of the economic relationship between the United States and the People's Republic of China.” Pursuant to this mandate, the Commission will hold a public release of its 2017 Annual Report to Congress in Washington, DC on November 15, 2017.

DATES: The release is scheduled for Wednesday, November 15, 2017 from 9:00 a.m. to 10:00 a.m.

ADDRESSES: Hart Senate Office Building, Room 902, Washington, DC. Please check the Commission's Web site at www.uscc.gov for possible changes to the event schedule. Reservations are not required to attend.

FOR FURTHER INFORMATION CONTACT: Any member of the public seeking further information concerning the event should contact Leslie Tisdale, 444 North Capitol Street NW., Suite 602, Washington, DC 20001; telephone: 202-624-1496, or via email at ltisdale@uscc.gov. Reservations are not required to attend.

SUPPLEMENTARY INFORMATION:

Topics to Be Discussed: The Commission's 2017 Annual Report to Congress addresses the following topics:

• U.S.-China Economic and Trade Relations, including: Year in Review: Economics Trade; Chinese Investment in the United States; and U.S. Access to China's Consumer Market.

• U.S.-China Security Relations, including: Year in Review: Security and Foreign Affairs; China's Military Modernization in 2017; and Hotspots along China's Maritime Periphery.

• China and the World, including: China and Continental Southeast Asia; China and Northeast Asia; China and Taiwan; China and Hong Kong; and China's Domestic Information Controls, Global Media Influence, and Cyber Diplomacy.

• China's High-Tech Development, including China's Pursuit of Dominance in Computing, Robotics, and Biotechnology; and China's Pursuit of Advanced Weapons.

Authority: Congress created the U.S.-China Economic and Security Review Commission in 2000 in the National Defense Authorization Act (Pub. L. 106-398), as amended by Division P of the Consolidated Appropriations Resolution, 2003 (Pub. L. 108-7), as amended by Public Law 109-108 (November 22, 2005), as amended by Public Law 113-291 (December 19, 2014).

Dated: November 1, 2017.
Michael Danis,
Executive Director, U.S.-China Economic and Security Review Commission.

[FR Doc. 2017-24120 Filed 11-3-17; 8:45 am]

BILLING CODE 1137-00-P